DEPARTMENT OF ENERGY

Federal Energy Regulatory Commission

[Docket No. CP04-12-002]

TransColorado Gas Transmission Company; Notice of Compliance Filing

July 14, 2004.

Take notice that on July 1, 2004, TransColorado Gas Transmission Company (TransColorado) tendered for filing as part of its FERC Gas Tariff, First Revised Volume No. 1, the following tariff sheets, with an effective date of August 1, 2004:

Seventh Revised Sheet No. 21

First Revised Sheet No. 22B

TransColorado is filing the above-referenced tariff sheets in compliance with the Commission's “Order Issuing Certificate” dated March 24, 2004, in Docket No. CP04-12-000.

TransColorado states that a copy of this filing has been served upon all parties on the official service list for this proceeding.

Any person desiring to protest said filing should file a protest with the Federal Energy Regulatory Commission, 888 First Street, NE., Washington, DC 20426, in accordance with section 385.211 of the Commission's rules and regulations. All such protests must be filed on or before the date as indicated below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: July 29, 2004.

Magalie R. Salas,
Secretary.

[FR Doc. E4-1625 Filed 7-20-04; 8:45 am]

BILLING CODE 6717-01-P